Title 3—

The President

Proclamation 7835 of October 20, 2004

National Disability Employment Awareness Month, 2004

By the President of the United States of America

A Proclamation

Americans with disabilities are active and contributing members of our society, and they must have the opportunity to develop the skills they need to compete and obtain jobs in the 21st century workforce. By reducing physical barriers and false perceptions, our country meets our commitment to millions of Americans with disabilities, and benefits from their talents, creativity, and hard work.

The Americans with Disabilities Act of 1990 (ADA) has brought about important progress in our Nation. Under my Administration's New Freedom Initiative, we continue to work to ensure that people with disabilities can participate fully in the workplace and all aspects of community life. Through funding for new technologies and innovative resources, we are changing old ways of thinking and fulfilling the Federal Government's commitment to opportunity for every citizen.

The New Freedom Initiative has helped enable individuals with disabilities to access assistive technologies. My Administration has invested in research and development for new technology. We have expanded the Department of Defense's Computer/Electronic Accommodations Program, which provides Federal employees with disabilities greater access to electronic and information technology. The Department of Labor launched DisabilityInfo.gov in 2002, an online resource that streamlines access to information about Federally sponsored employment, job accommodations, transportation, State and regional assistance programs, technology, and other programs relevant to the daily lives of individuals with disabilities.

We must foster a better understanding of ADA requirements and increase dialogue and cooperation between the business and disability communities. Through the New Freedom Small Business Initiative, the Department of Labor and the Small Business Administration are educating small business owners about the benefits of hiring people with disabilities and helping adult workers with disabilities acquire the skills and resources needed to become small business owners. The Equal Employment Opportunity Commission is releasing user-friendly information on how the ADA applies to particular disabilities in the workplace and providing free ADA workshops offering employment-related services and information sessions for small businesses. My Administration is implementing the “Ticket to Work” program, which allows Social Security and Supplemental Security Income disability beneficiaries who want to work to choose their own employment-related services. The Department of Labor and other agencies are also improving the capacity of community One-Stop Career Centers to provide training and employment services to people with disabilities.

To recognize the contributions of Americans with disabilities and to encourage all citizens to ensure equal opportunity in the workforce, the Congress, by joint resolution approved August 11, 1945, as amended (36 U.S.C. 121), has designated October of each year as “National Disability Employment Awareness Month.”

NOW, THEREFORE, I, GEORGE W. BUSH, President of the United States of America, do hereby proclaim October 2004 as National Disability Employment Awareness Month. I call upon Government officials, labor leaders, employers, and the people of the United States to observe this month with appropriate programs, ceremonies, and activities.

IN WITNESS WHEREOF, I have hereunto set my hand this twentieth day of October, in the year of our Lord two thousand four, and of the Independence of the United States of America the two hundred and twenty-ninth.

B

[FR Doc. 04-23991

Filed 10-22-04; 9:08 am]

Billing code 3195-01-P